DEPARTMENT OF COMMERCE

International Trade Administration

[A-533-861]

Certain Polyethylene Terephthalate Resin From India: Notice of Correction to Antidumping Duty Order

AGENCY: Enforcement and Compliance, International Trade Administration, Department of Commerce.

FOR FURTHER INFORMATION CONTACT: Fred Baker or Robert James, AD/CVD Operations, Office VI, Enforcement and Compliance, International Trade Administration, U.S. Department of Commerce, 14th Street and Constitution Avenue NW., Washington, DC 20230; telephone: (202) 482-2924 or (202) 482-0649, respectively.

SUPPLEMENTARY INFORMATION: On May 6, 2016, the Department of Commerce (the Department) published the Antidumping Duty Order on certain polyethylene terephthalate resin from India.¹ The Antidumping Duty Order contained an error. Specifically, the cash deposit rate given for Ester Industries, Ltd. (Ester), contained a transposition of two numbers. The cash deposit rate in the Antidumping Duty Order for Ester is incorrectly listed as 9.31. The correct cash deposit rate for Ester is 9.13. As a result, we now correct the Antidumping Duty Order as noted above.

¹ See Certain Polyethylene Terephthalate Resin From Canada, the People's Republic of China, India, and the Sultanate of Oman: Amended Final Affirmative Antidumping Determination (Sultanate of Oman) and Antidumping Duty Orders, 81 FR 27979 (May 6, 2016) (Antidumping Duty Order).

This correction to the Antidumping Duty Order is issued and published in accordance with section 777(i)(1) of the Tariff Act of 1930, as amended.

Dated: May 20, 2016.
Paul Piquado,
Assistant Secretary for Enforcement and Compliance.

[FR Doc. 2016-12614 Filed 5-26-16; 8:45 am]

BILLING CODE 3510-DS-P